DEPARTMENT OF COMMERCE

International Trade Administration

Initiation of Antidumping and Countervailing Duty Administrative Reviews

AGENCY: Enforcement and Compliance, International Trade Administration, Department of Commerce.

SUMMARY: The Department of Commerce (the Department) has received requests to conduct administrative reviews of various antidumping and countervailing duty orders and findings with October anniversary dates. In accordance with the Department's regulations, we are initiating those administrative reviews.

DATES: Applicable December 7, 2017.

FOR FURTHER INFORMATION CONTACT: Brenda E. Brown, Office of AD/CVD Operations, Customs Liaison Unit, Enforcement and Compliance, International Trade Administration, U.S. Department of Commerce, 1401 Constitution Avenue NW., Washington, DC 20230, telephone: (202) 482-4735.

SUPPLEMENTARY INFORMATION:

Background

The Department has received timely requests, in accordance with 19 CFR 351.213(b), for administrative reviews of various antidumping and countervailing duty orders and findings with October anniversary dates.

All deadlines for the submission of various types of information, certifications, or comments or actions by the Department discussed below refer to the number of calendar days from the applicable starting time.

Notice of No Sales

If a producer or exporter named in this notice of initiation had no exports, sales, or entries during the period of review (POR), it must notify the Department within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews initiated pursuant to requests made for the orders identified below, the Department intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review, or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise. In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not

limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than October 31, 2018.

| Period to be reviewed
Antidumping Duty Proceedings
Australia: Certain Hot-Rolled Steel Flat Products A-602-809 | 3/22/16-9/30/17
BlueScope Steel, Ltd.
BlueScope Steel Americas, Inc
Steelscape LLC
Brazil: Carbon and Certain Alloy Steel Wire Rod A-351-832 | 10/1/16-9/30/17
ArcelorMittal Brasil SA
Siderurgica Norte Brasil SA
Sinobras
Villares Metals SA
Votorantim Siderurgia
Brazil: Hot-Rolled Steel Flat Products A-351-845 | 3/22/16-9/30/17
Aperam South America
ArcelorMittal Brasil
CSN—Companhia Siderurgica Nacional
CSS—Companhia Siderurgica Suape
Marcegaglia do Brasil
Usiminas—Usinas Siderurgicas de Minas Gerais SA
Japan: Certain Hot-Rolled Steel Flat Products A-588-874 | 3/22/16-9/30/17
Hanwa Co., Ltd
Hitachi Metals, Ltd
Honda Trading Canada, Inc
JFE Steel Corporation
JFE Shoji Trade America
Kanematsu Corporation
Kobe Steel, Ltd
Mitsui & Co., Ltd
Miyama Industry Co., Ltd
Nippon Steel & Sumitomo Metal Corporation
Nippon Steel & Sumikin Logistics Co., Ltd
Nisshin Steel Co., Ltd
Okaya & Co., Ltd
Panasonic Corporation
Saint-Gobain KK
Shinsho Corporation
Sumitomo Corporation
Suzukaku Corporation
Tokyo Steel Manufacturing Co., Ltd
Toyota Tsusho Corporation Nagoya
Mexico: Carbon and Certain Alloy Steel Wire Rod A-201-830 | 10/1/16-9/30/17
ArcelorMittal Mexico, S.A. de C.V
ArcelorMittal Las Truchas, S.A. de C.V
Deacero S.A.P.I. de C.V
Ternium Mexico S.A. de C.V
Republic of Korea: Hot-Rolled Steel Flat Products A-580-883 | 3/22/16-9/30/17
Daewood International Corp
Dongbu Steel Co., Ltd
Dongkuk Industries Co., Ltd
Hyundai Steel Co
Marubeni-Itochu Steel Korea
POSCO
POSCO Processing & Service Co
Soon Hong Trading Co
Sungjin Co
The Netherlands: Hot-Rolled Steel Flat Products A-421-813 | 3/22/16-9/30/17
Tata Steel Ijmuiden BV
The People's Republic of China: Certain Passenger Vehicle and Light Truck Tires ⁴ A-570-016 | 8/1/16-7/31/17
Cheng Shin Tire & Rubber (China) Co., Ltd.
Shandong Haolong Rubber Tire Co., Ltd.
The People's Republic of China: Certain Steel Nails ⁵ A-570-909 | 8/1/16-7/31/17
The People's Republic of China: Electrolytic Managanese Dioxide A-570-919 | 10/1/16-9/30/17
Shenzhen Pengcheng South Industry and Trade Co., Ltd.
The People's Republic of China: Multilayered Wood Flooring ⁶ A-570-970 | 12/1/15-11/30/16
Den Hua Sen Tai Wood Co. Ltd
Hangzhou Hanje Tec Co. Ltd
The People's Republic of China: Steel Wire Garment Hangers A-570-918 | 10/1/16-9/30/17
Da Sheng Hanger Ind. Co., Ltd
Hangzhou Qingqing Mechanical Co. Ltd
Hangzhou Yingqing Material Co. Ltd
Hangzhou Yinte
Hong Kong Wells Ltd. (USA)
Hong Kong Wells Ltd
Shanghai Guoxing Metal Products Co. Ltd
Shanghai Jianhai International Trade Co. Ltd
Shanghai Wells Hanger Co., Ltd
Shangyu Baoxiang Metal Manufactured Co. Ltd
Shaoxing Andrew Metal Manufactured Co. Ltd
Shaoxing Dingli Metal Clotheshorse Co. Ltd
Shaoxing Gangyuan Metal Manufactured Co. Ltd
Shaoxing Guochao Metallic Products Co., Ltd
Shaoxing Liangbao Metal Manufactured Co. Ltd
Shaoxing Meideli Hanger Co. Ltd
Shaoxing Shunji Metal Clotheshorse Co., Ltd
Shaoxing Tongzhou Metal Manufactured Co. Ltd
Shaoxing Zhongbao Metal Manufactured Co. Ltd
Zhejiang Lucky Cloud Hanger Co. Ltd
Turkey: Hot-Rolled Steel Flat Products A-489-826 | 3/22/16-9/30/17
Agir Haddecilik A.S
Colakoglu Dis Ticaret A.S
Colakoglu Metalurji, A.S
Eregrli Demir ve Celik Fabrikalari T.A.S
Gazi Metal Mamulleri Sanayi Ve Ticaret A.S
Habas Industrial and Medical Gases Production Industries Inc
Habas Sinai ve Tibbi Gazlar Istihsal Endustrisi
Iskenderun Iron & Steel Works Co
MMK Atakas Metalurji
Ozkan Iron and Steel Ind
Toscelik Profile and Sheet Ind. Co. Tosyali Holding
Countervailing Duty Proceedings
Brazil: Carbon and Certain Alloy Steel Wire Rod C-351-833 | 1/1/16-12/31/16
ArcelorMittal Brasil SA
Sinobras—Siderurgica Norte Brasil SA
Villares Metals SA
Votorantim Siderurgia
Brazil: Hot-Rolled Steel Flat Products C-351-846 | 1/15/16-12/31/16
Companhia Siderurgica Nacional S.A
Republic of Korea: Hot-Rolled Steel Flat Products C-580-884 | 8/12/16-12/31/16
DCE Inc
Dong Chuel America Inc
Dongbu Steel Co., Ltd
Dongkuk Industries Co., Ltd
Hyewon Sni Corporation (H.S.I.)
Hyundai Steel Company
POSCO
Soon Hong Trading Co., Ltd
Sung-A Steel Co., Ltd
Turkey: Oil Country Tubular Goods ⁷ C-489-817 | 1/1/16-12/31/16
Borusan Mannesmann Boru Sanayi ve Ticaret A.S
Borusan Istikbal Ticaret
Cayirova Boru San A.S
Cayirova Boru Sanayi ve Ticaret A.S
HG Tubulars Canada Ltd
Yucel Boru Ihracat ve Pazarlama A.S
Yucelboru Ihracat, Ithalat
Suspension Agreements
Russia: Uranium A-821-802 | 10/1/16-9/30/17

Duty Absorption Reviews

⁴ The companies listed above were misspelled in the initiation notice that published on October 16, 2017 (82 FR 48051). The correct spelling of the companies is listed in this notice.

⁵ In the initiation that published on October 16, 2017 (82 FR 48051), the Department incorrectly identified that an administrative review was initiated on the antidumping duty order of Certain Steel Nails from the PRC for R-Time Group Inc.; Unicore Tianjin Fasteners Co. Ltd.; Anjing Caiquing Hardware Co., Ltd.; and Nanjing Caiquing Hardware Co. Ltd. The Department is now correcting that notice: The Department is initiating administrative reviews on the antidumping duty order of Certain Steel Nails from the PRC for the following companies: (1) Ri-Time Group Inc.; (2) Unicorn Tianjin Fasteners Co. Ltd.; (3) Nanjing Caiqing Hardware Co., Ltd.; (4) Hebei Handform Plastic Products Co. Ltd.; (5) Hebei Minghao Imp. & Exp. Co. Ltd.; (6) Hengtuo Metal Products Co. Ltd; (7) Shandong Dinglong Import & Export Co., Ltd; (8) Nanjing Toua Hardware & Tools Co., Ltd.; and (9) Hebei Minmetals Co. Ltd.

⁶ The companies listed above were inadvertently omitted from the initiation notice that published on February 13, 2017 (82 FR 10457).

⁷ In the initiation notice that published on November 13, 2017 (82 FR 52268) the Department inadvertently duplicated the list of companies for Oil Country Tubular Goods from Tukey and included Tosyali Dis Ticaret A.S. in the initiation. However, as noted in that initiation notice, this company was excluded from the CVD order as a result of litigation. See Oil Country Tubular Goods from the Republic of Turkey: Amendment of Countervailing Duty Order, 82 FR 46483 (October 26, 2017). This notice serves as a correction.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in the Department's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

The Department's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁸ Parties are hereby reminded that revised certification requirements are in effect for company/government officials as well as their representatives. All segments of any antidumping duty or countervailing duty proceedings initiated on or after August 16, 2013, should use the formats for the revised certifications provided at the end of the Final Rule.⁹ The Department intends to reject factual submissions in any proceeding segments if the submitting party does not comply with applicable revised certification requirements.

⁸ See section 782(b) of the Act.

⁹ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: December 1, 2017.
James Maeder,
Senior Director performing the duties of Deputy Assistant Secretary for Antidumping and Countervailing Duty Operations.

[FR Doc. 2017-26383 Filed 12-6-17; 8:45 am]

BILLING CODE 3510-DS-P